DEPARTMENT OF ENERGY

10 CFR Part 1042

[DOE-HQ-2025-0016]

RIN 1903-AA25

Nondiscrimination on the Basis of Sex in Sports Programs Arising Out of Federal Financial Assistance

AGENCY: Office of Civil Rights and EEO, Department of Energy.

ACTION: Direct final rule; delay of effective date.

SUMMARY: Due to the receipt of significant adverse comments, the U.S. Department of Energy (DOE) is extending the effective date of the direct final rule “Nondiscrimination on the Basis of Sex in Sports Programs Arising Out of Federal Financial Assistance,” published on May 16, 2025.

DATES: As of July 14, 2025, the effective date of the direct final rule published May 16, 2025, at 90 FR 20786, is delayed until September 12, 2025.

FOR FURTHER INFORMATION CONTACT: Mr. Jeffrey Novak, U.S. Department of Energy, Office of the General Counsel, GC-1, 1000 Independence Avenue SW, Washington, DC 20585; (202) 586-5281 or DOEGeneralCounsel@hq.doe.gov.

SUPPLEMENTARY INFORMATION: On May 16, 2025, DOE published a direct final rule. (90 FR 20786). DOE stated in that direct final rule that if significant adverse comments were received by June 16, 2025, DOE would withdraw the direct final rule or issue a new final rule which responds to the significant adverse comments.

Because DOE subsequently received significant adverse comments on that direct final rule, DOE is extending the effective date to consider comments submitted in response to the direct final rule.

To the extent that 5 U.S.C. 553 applies to this action, it is exempt from notice and comment because it constitutes a rule of procedure under 5 U.S.C. 553(b)(A) and for which no notice or hearing is required by statute. Additionally, this action is not a “substantive rule” for which a 30-day delay in effective date is required under 5 U.S.C. 553(d).

Signing Authority

This document of the Department of Energy was signed on July 9, 2025, by Chris Wright, the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on July 10, 2025.
Treena V. Garrett,
Federal Register Liaison Officer, U.S. Department of Energy.

[FR Doc. 2025-13129 Filed 7-11-25; 8:45 am]

BILLING CODE 6450-01-P